SECURITIES AND EXCHANGE COMMISSION

Sunshine Act Meeting; Cancellation

FEDERAL REGISTER CITATION OF PREVIOUS ANNOUNCEMENT: 86 FR 24059, May 5, 2021.

PREVIOUSLY ANNOUNCED TIME AND DATE OF THE MEETING: Friday, May 7, 2021 at 1:00 p.m.

CHANGES IN THE MEETING: The Closed Meeting scheduled for Friday, May 7, 2021 at 1:00 p.m., has been cancelled.

CONTACT PERSON FOR MORE INFORMATION: For further information; please contact Vanessa A. Countryman from the Office of the Secretary at (202) 551-5400.

Dated: May 6, 2021.
Vanessa A. Countryman,
Secretary.

[FR Doc. 2021-09940 Filed 5-6-21; 4:15 pm]

BILLING CODE 8011-01-P